DEPARTMENT OF HEALTH AND HUMAN SERVICES

Administration for Children and Families

Submission for Office of Management and Budget Review: Unaccompanied Alien Children Bureau Assessments for Children and Sponsors (Office of Management and Budget #0970-NEW)

AGENCY: Office of Refugee Resettlement; Administration for Children and Families; U.S. Department of Health and Human Services.

ACTION: Request for public comments.

SUMMARY: The Office of Refugee Resettlement (ORR), Administration for Children and Families (ACF), U.S. Department of Health and Human Services, requests approval from the Office of Management and Budget (OMB) and invites public comments on the proposed information collection, including proposed changes. The request consists of several forms that will allow the Unaccompanied Alien Children Bureau (UAC Bureau) to continue conducting statutorily mandated assessments of unaccompanied alien children (UAC—also referred to as “child” or “children”) in ORR care and custody as well as their sponsors. These assessments allow ORR to understand the status and needs of the child and their potential sponsor; assessment findings inform all decisions concerning the child's care while in ORR custody and eventual reunification with a sponsor.

DATES: Comments due June 26, 2025. The Office of Management and Budget (OMB) is required to decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this information collection by selecting “Currently under 30-day Review—Open for Public Comments” or by using the search function. You can also obtain copies of the proposed collection of information by emailing infocollection@acf.hhs.gov. Identify all emailed requests by the title of the information collection.

SUPPLEMENTARY INFORMATION:

Description: ORR has undertaken a reorganization of its information collections to promote operational efficiency. The reorganization will result in more collections that contain fewer forms under a single OMB number. This request is to create a new information collection that contains forms associated with the provision of critical assessments to UAC and their sponsors. This information collection will contain seven revised forms transferred from one existing information collection and two new forms. The forms and the information collections under which they are currently approved are as follows:

• Services Provided to Unaccompanied Alien Children (OMB #0970-0553)

○ Sponsor Assessment (Form S-5)

○ Adult Contact Profile (Form S-7)

○ Initial Intakes Assessment (Form S-8)

○ Assessment for Risk (Form S-9)

○ UAC Assessment (Form S-11)

○ UAC Case Review (Form S-12)

○ Individual Service Plan (Form S-13)

• Newly Developed Category 4 Initiative Forms:

○ Permanency Planning Portfolio (Form #—TBD)

○ Family Finding Mobility Mapping Practice Guide (Form #—TBD)

These forms are completed by care provider Case Managers and Clinicians at care provider facilities, and exclusively for the Sponsor Assessment (Form S-5), by Unification Specialists operating remotely. These forms assess the suitability of potential sponsors applying to reunify with a child; capture critical historical, biographic and medical data for children upon admission to the UAC Bureau care provider; assess the child for sexual abuse history and risk of abusive behavior towards others; review and update prior assessment data over time; and collaboratively identify potential sponsors for children without a viable sponsor (referred to as “Category 4” cases) utilizing child-friendly interactive techniques and extensive kinship network mapping. These forms are documentary in nature and a critical component of the child's case file.

In addition to grouping forms related to Assessments together in this information collection, ORR is proposing the following revisions:

○ Global Changes across all currently approved forms:

Replace “Minor” with “Child”; replace “UC” or “Unaccompanied Child” with “UAC” or “Unaccompanied Alien Child” wherever they appear in conformance with terminology originating in the Homeland Security Act of 2002.

Replace “Gender” with “Sex”; “male” and “female” as the only menu options in conformance with Executive Order (E.O.) 14168 (Defending Women From Gender Ideology Extremism and Restoring Biological Truth to the Federal Government)

Replace “Primary” language with “Preferred”.

Simplify certain fields that capture both date and time to only capture the date when hour and minute of completion or certification is immaterial.

Include Physical Location of the Child field in the UAC Basic Information section across all forms to conform with changes concurrently proposed in the Services Provided to Unaccompanied Alien Children Information Collection (OMB #0970-0553).

Minor terminology edits to conform with UACB style guide standards as established in the UC Program Foundational Rule (45 CFR 410) as well as to improve clarity and consistency with other form titles and/or fields.

Add translator or interpreter certification to assessments requiring input directly from a child or sponsor, as relevant.

• Sponsor Assessment (Form S-5): Currently, there are two approved versions of this form-one for UAC Portal and one for the UC Path system, which was never implemented. ORR plans to discontinue the UC Path version of this form, which was never deployed, and make the following revisions to the UAC Portal version.

○ Add new Current Sponsor Status field to the Sponsor Assessment to provide a high-level progress status for each assessment to inform concurrent planning efforts to identify alternative sponsors and Case Review (Form S-12).

○ Add Date Sponsor Identified to Adult Contact Profile section to improve data tracking for program performance evaluation.

○ Revise Proof of Identity Document Type options to conform with updated UAC Policy Guidance Section 2.2.4—Required Documents for Submission with the Application for Release, issued March 7th, 2025.

○ Revise Proof of Address Document Type options conform with updated UAC Policy Guidance Section 2.2.4—Required Documents for Submission with the Application for Release, issued March 7th, 2025.

○ Revise Proof of Address verification question “Dated within 2 months?” to “Dated within 30 days?”.

○ Revise Proof of Relationship Document Type options to conform with updated UAC Policy Guidance Section 2.2.4—Required Documents for Submission with the Application for Release, issued March 7th, 2025.

○ Add “Comment” field for Case Managers to document other proof of relationship submitted for Category 3 cases to reliably and sufficiently establish a bona-fide social relationship with the child and/or family in country of origin.

○ Revise Proof of Identity Document Type for Household Members to conform with updated UAC Policy Guidance Section 2.2.4—Required Documents for Submission with the Application for Release, issued March 7th, 2025.

○ Revise “Proof of Income” field under Employment section to a dropdown menu with the following options:

Previous Year's U.S. Tax Return;

Paystubs covering last 60 days continuous;

Original letter from employer on company letterhead verifying sponsor's employment and salary, dated within <60 days;

ORR Affidavit of support;

Bank statements;

Public Assistance Records—TANF;

Public Assistance Records—SSI;

Public Assistance Records—Cash Assistance;

Public Assistance Records—Other entitlement Program;

Records of interest or income earned from assets or investments.

○ Revise Proof of Identity Document Type options for Alternate Caregiver to conform with updated UAC Policy Guidance Section 2.2.4—Required Documents for Submission with the Application for Release, issued March 7th, 2025

○ Revise “Substance Abuse Disclosed by Sponsor” under Criminal History and Background Checks Self Disclosure section to read “Legal issues related to drug or alcohol use (e.g., D.U.I., D.W.I., Possession, Manufacture. Distribution of controlled substances)” to better capture data concerning the sponsor's risk profile

○ Add several questions to the “Care Plan” section of the form to document the sponsor's awareness and ability to care for the child's healthcare needs

○ In response to public comment, add the following questions to the “Care Plan” section to document the actions ORR has taken to uphold its obligations under the Lucas R. Settlement Agreement:

Affirmative efforts to support children with identified disabilities and their sponsors with referral to appropriate community-based services;

Affirmative efforts to educate the potential sponsor on the child's specific disability-related needs;

Document any reasonable accommodation or modifications made to the sponsorship process to facilitate the safe release of a child to a sponsor with an identified disability.

○ Add functionality to add multiple adult caregivers to the “Care Plan” section of the form and identify one as the current or primary caregiver

○ Add a sponsor-child debt attestation question to the “Trafficking” and “Fraud” section of the form to document the sponsor's understanding and intent to comply with ORR policy prohibiting the sponsor from seeking or collecting any financial renumeration from the child or their family or encouraging the child to work counter to child labor laws or without a legal permit.

○ Rename “Summary Case Manager Assessment Tab” to “Sponsor Assessment Summary Tab” to reflect inclusion of the Unification Specialist role and emphasize that the summary step before certification of the form.

○ Add Unification Specialist role, contact information, and recommendation fields to the Summary Sponsor Assessment section.

○ Add the following fields in response to public comment to document the actions ORR has taken to uphold its obligations under the Lucas R. Settlement Agreement:

Under Unification Specialist Assessment, add a field to affirmatively document how the sponsor suitability recommendation considers the assistance ORR must provide to potential sponsors of children with disabilities.

Under the Case Manager Assessment, modify the assessment instructions to specifically direct the Case Manager to document their evaluation of the benefits of placing the child with this sponsor in the sponsor's community setting.

Under the Case Manager Assessment, add the following fields:

• “Do you have any outstanding concerns related to the child's disability? (Yes/No/Not Applicable).

• If you answered Yes, describe the steps ORR will take to help the sponsor better understand the child's needs related to the child's disability, the post-release services ORR will assist the sponsor in coordinating, and whether these efforts will enable the child's safe release.

• If you answered “Yes”, describe whether ORR has taken all actions contemplated by the transition plan in the child's 504 Service Plan.

○ Add an open text field that is triggered by conditional logic when the assessment is completed outside of the five-calendar day deadline, prompting the respondent to indicate a reason for the delay.

○ Adjust the burden estimate to account for a decrease in the number of children placed in ORR care reflect that the form is completed by four different groups of respondents, and to reflect a slight increase in the overall number of fields the respondents will need to complete. The annual number of Case Manager respondents increased from 216 to 300. The annual number of Unification Specialists is estimated to be approximately 680, the annual number of Interpreter respondents is estimated to be 300, and the number of sponsors expected to participate in the assessment is expected to increase from 57,195 to 68,900. The annual number of responses per respondent changed as follows: The number of responses per sponsor remains unchanged at 1, the number of responses per Case Manager is expected to decrease from 265 to 230, the number of responses per Unification Specialist is estimated to be 101, and the number of responses per Interpreter is estimated to be 230. The average burden hours per response remains unchanged at 1 hour, reflecting few substantive changes described above.

• Adult Contact Profile (Form S-7): The Adult Contact Profile was developed for the UC Path case management system which was never implemented; the Adult Contact Profile is currently approved under the Services Provided to Unaccompanied Alien Children information collection (OMB # 0970-0553) is being renewed with one substantive change. ORR plans to incorporate the adult contact profile with all UC Path features into the UAC Portal case management system at a future date, which will allow ORR to establish unique UAC Portal profiles for non-sponsor adults, such as household members, relatives in home country, and designated alternate caregivers. This will facilitate improved data tracking and flagging across cases should these individuals later apply to sponsor a child.

○ Remove the “Legal Status” question from the form as irrelevant and immaterial to facilitating better data tracking across cases.

• Initial Assessment (Form S-8): Currently, there are two approved versions of this form-one for UAC Portal, ORR's online case management system, and one for the UC Path system, a proposed replacement for the UAC Portal which was never implemented. ORR plans to discontinue the UC Path version of this form, which was never deployed, and make the following revisions to the UAC Portal version.

○ Clarify instructions to the respondent mandating the assessment to be completed within 24 hours of admission to the care provider program.

○ Introduce questions related to languages spoken, fluency, and comprehension to document the child's understanding of the assessment questions.

○ Add a field to the “Family Information” section to indicate if a relative might be a potential sponsor.

○ Rephrase sensitive questions pertaining to mental health concerns using more specific and child-friendly terms and eliminating redundant questions.

○ Adjust the burden estimate to account for a projected increase in the number of children placed in ORR care since the form's last renewal and reflect that the form is completed by three different potential respondents with input from the child. The annual number of Case Manager respondents is expected to increase from 216 to 300, the annual number of Clinician respondents is estimated to be 300, the annual number of Interpreter respondents is estimated to be 300, and the number of children projected to be referred in FY 2025 is expected to increase from 60,048 to 65,000. The annual number of responses per respondent changed as follows: The number of responses per child remains unchanged at 1, the number of responses per Case Manager is expected to decrease from 265 to108, the number of responses per Clinician is estimated to be 108, and the number of responses per Interpreter is estimated to be 217. The average burden hours per response remains unchanged at .33 hours, reflecting the minimal substantive changes described above.

• Assessment for Risk (Form S-9): Currently, there are two approved versions of this form: one for UAC Portal, ORR's online case management system, and one for the UC Path system, a proposed replacement for UAC Portal which was never implemented. ORR plans to discontinue the UC Path version of this form, which was never deployed, and make the following revisions to the UAC Portal version.

○ Clarify terminology concerning the purpose of the assessment in the instructions to the respondent.

○ Revise question text in the following ways:

Include more specific and child-friendly terminology concerning sensitive topics related to sexual activity and sexual abuse history.

Incorporate “suspected or diagnosed” terminology to questions pertaining to disabilities.

Add citation to the authorizing statute: ORR Standards to Prevent, Detect, and Respond to Sexual Abuse and Sexual Harassment Involving Unaccompanied Children (45 CFR 411.41-42).

○ Add fields to document the following:

If the child would like to be referred to a mental health counselor or clinician to discuss their past sexual activity and/or sexual abuse history.

If the child or caretaker in home country report any issues with the child's ability to carry out tasks of daily living that may affect the child's housing assignment while in ORR care.

The creation of an individual 504 plan under the “Actions Taken” question of the “Housing,” “Other Service Assignments,” and “Follow-Up” Section.

○ Remove question text specific to sexual orientation gender identity labels and replace with open-ended questions to elicit more discussion regarding sexual victimization risk factors identified in ORR regulation (45 CFR 411.41).

○ Adjust the burden estimate to account for a projected decrease in the number of children placed in ORR care since the form's last renewal and reflect that the form is completed by three different potential respondents with input from the child. The annual number of Case Manager respondents is expected to increase from 216 to 300 the annual number of Clinician respondents is estimated to be 300, the annual number of Interpreter respondents is estimated to be 300, and the number of children projected to be referred in FY 2025 is expected to decrease from 120,096 to 65,000. The annual number of responses per respondent changed as follows: The number of responses per child remains unchanged at 1, the number of responses per Case Manager is expected to decrease from 556 to 108, the number of responses per Clinician is estimated to be 108, and the number of responses per Interpreter is estimated to be 217. The average burden hours per response remains unchanged at .75 hours, reflecting the minimal substantive changes described above.

• UAC Assessment (Form S-11): ORR currently maintains two approved versions of this form under the Services Provided to Unaccompanied Alien Children information collection (OMB #0970-0553), one version for the UAC Portal case management system currently in use, and a second version developed for the UC Path system which was never implemented. ORR plans to discontinue the UC Path version of the UAC Assessment, which was never deployed, renewing only the UAC Portal version with the changes described below:

○ Add the following fields to the “Journey and Apprehension” section:

What neighbors or other people were important in your daily life in Country of Origin (COO)?

Did someone you know come to the U.S. before you and tell you about opportunities?

Did you meet any adults along the journey with whom you built a trusting relationship? If yes, what are their names and where are they now?

Who are some trusted adults that the child knows at their intended destination?

As a sub-question to “Have you been to the U.S. before?”—Ask: “if yes, with whom did you live?”

○ Under the “Family/Significant Relationships” section, add:

Name, address, contact, and relationship of parent or legal guardian fields.

Field to capture current address/residence of other family remaining in country of origin.

Fields to capture contact info and indicate sponsorship potential of identified friends and/or family residing in the U.S.

A field to document any family members who previously lived in the U.S., their dates of residence and if they maintain contact with any former U.S.-based contacts.

○ Revise Medical Assessment questions to capture more specific health status and health concern data as follows:

Adding fields related to current health status, allergies, diet, mobility, and the child's need for assistance with daily activities.

Add field to capture if the child has any health concerns they would like to discuss with a health care provider.

Add fields to capture data concerning any medication the child arrived with, their prescribed dosing interval and last dose administered.

○ Add the following question to the Education section: “Have you ever been diagnosed with a learning disability (dyslexia, dysgraphia, auditory processing disorder, etc.)? (Yes/No) If yes, specify”.

○ Update terminology concerning the ORR mandated Legal Screening to read “Confidential Legal Consultation”, as required by the Unaccompanied Children Program Foundational Rule (45 CFR 410.1309(a)(2)(v)).

○ Revise the Mental Health section of the form as follows:

Add “Future Oriented” option to “Thought Process” field.

Revise terminology throughout and split compound questions into simpler, distinct questions to improve child-friendliness of the assessment and the specificity of their responses.

Add question concerning the use of inhalants to the “Substance Use History” sub-section.

○ Revise the Criminal History section, adding questions to document gang affiliation history with the following fields to correspond with CBP referral data:

Known Gang Affiliation? (Yes/No/Unknown/Suspect);

Name of Gang: (Open Text Field);

Gang Affiliation Summary: (Open Text Field);

Determined by: (Self-admission of child/Gang Tattoos/Gang Affiliation Summary).

○ Revise the “Trafficking” section, adding questions to document contacts with others that the child made during their journey to the U.S. and capture their contact information.

○ Add explanatory text to the Americans with Disabilities Act of 1990, 42 U.S.C. 12102(1) citation under the “Trafficking Victims Protection Reauthorization Act (TVPRA)” section and the subsequent question documenting disability concerns that require further evaluation.

○ Add document upload field to “Additional Information” section to link the child's journey mapping file to the UAC Assessment.

○ Adjust the burden estimate to account for a projected decrease in the number of children placed in ORR care since the form's last renewal and reflect that the form is completed by three different potential respondents with input from the child. The annual number of Case Manager respondents is expected to increase from 216 to 300, the annual number of Clinician respondents is estimated to be 300, the annual number of Interpreter respondents is estimated to be 300, and the number of children projected to be referred in FY 2025 is expected to decrease from 120,096 to 65,000. The annual number of responses per respondent changed as follows: The number of responses per child remains unchanged at 1, the number of responses per Case Manager is expected to decrease from 556 to 108, the number of responses per Clinician is estimated to be 108, and the number of responses per Interpreter is estimated to be 217. The average burden hours per response is expected to increase from 2.0 to 2.25 hours, reflecting the addition of new fields described above.

• UAC Case Review (Form S-12): Currently, there are two approved versions of this form-one for UAC Portal and one for the UC Path system, which was never implemented. ORR plans to discontinue the UC Path version of this form, which was never deployed, and make the following revisions to the UAC Portal version.

○ Revise the Medical Section with the following:

Remove the following fields:

• “List any allergies”;

• “Do you feel unwell”;

• “If yes, what are your symptoms?”;

• “Additional medical information”;

• Entire Medical History Checklist as redundant to information captured in the UAC Portal Health Tab;

• Entire Medication History subsection as redundant to information captured in the UAC Portal Health Tab.

Add the following fields:

• “Does the child have any health concerns (medical, mental health, dental) that have not been evaluated by a healthcare professional? If yes, specify:”

• “Does the child have any health-related travel restrictions? If yes, specify:”

• “Provide a short summary of the child's medical and/or psychological functioning:”

• “If the child is ready for discharge, does the child have any health problems, including dental and mental health, that requires follow-up after release from ORR care? If yes, specify:”

• “Describe follow-up care plan:”

○ Replace “Legal Screening” with “Confidential Legal Consultation” consistent with the UAC Program Foundational Rule (45 CFR 410.1309(a)(2)(v)).

○ Add “Criminal History and Gang Affiliation” section with the following sub-fields to capture updates from the UAC Assessment:

New Known Gang Affiliation? (Yes/No/Unknown/Suspect);

Name of Gang: (Open Text Field);

Gang Affiliation Summary: (Open Text Field);

Determined by: (Self-admission of child/Gang Tattoos/Gang Affiliation Summary).

○ Remove all fields from the “Mental Health” section to avoid duplication under the “Medical” section and remove “Axis” evaluation terminology which no longer conforms to standard psychiatric practice as specified in the 5th edition of the Diagnostic and Statistical Manual (DSM-V).

○ Revise the TVPRA section as follows:

Mirror changes to the TVPRA section as pertaining to the addition of explanatory text for the 42 U.S.C. 12102(1) and related fields.

Add fields to document the recommended level of post release services and type of home study.

○ Revise the Recommendation section to include a concurrent planning subsection capturing the following:

If the case is undergoing concurrent planning;

Name, contact info, sponsor category, and status of additional potential sponsors.

○ Revise Care plan section as follows:

Add fields to capture and distinguish Unification Specialist, Clinician, and Case Manager comments.

Remove Legal comments as field duplicates information collected in Legal section.

○ Adjust the burden estimate to account for a projected decrease in the number of children placed in ORR care since the form's last renewal and reflect that the form is completed by three different potential respondents. The annual number of Case Manager respondents is expected to increase from 216 to 300, the annual number of Clinician respondents is estimated to be 300 the annual number of Unification Specialist respondents is estimated to be 300, and the number of children projected to be referred in FY2025 is expected to decrease from 120,096 to 65,000. The annual number of responses per respondent changed as follows: The number of responses per Case Manager is expected to decrease from 556 to 217, the number of responses per Clinician is estimated to be 217, and the number of responses per Unification Specialist is estimated to be 96. The average burden hours per response is expected to decrease from 2.0 to .5 hours, reflecting the removal of numerous fields described above.

• Individual Service Plan (Form S-13): Two versions of this form are approved under the Services Provided to Unaccompanied Alien Children information collection (OMB #0970-0553); one associated with the UAC Portal case management system, and another designed for the UC Path system which was never implemented. ORR plans to discontinue the UC Path version of this form, which was never deployed, and incorporate features from the UC Path version into UAC Portal with this transfer. ORR has made the following modifications to the form:

○ Add a field to the Data Entry—Admission Assessment Individual Service Plan to identify if the child has a 504 Service Plan to document any services or accommodations needed due to their disability status.

○ Add the following auto-populated and system generated fields to the UAC Portal Individual Service Plan display window:

Assessment Status;

Does the child have a 504 Service Plan?;

Submitted Date.

○ Remove certain fields native to the UC Path system which do not have a corresponding feature or function in the UAC Portal:

Under New Admission Assessment Section:

• Assessment ID;

• Admission.

Under New Service Mandatory Section:

• Contract Number (SYSTEM GENERATED);

• Individual Service Plan (SYSTEM GENERATED);

• Entity Name (AUTO-POPULATE).

Under Document Upload Tab Section:

• Verified by Government Agency/Consulate;

• Entity;

• Individual;

• Adult Contact Relationship.

Under Certification by Case Manager Section:

• Legacy ID (SYSTEM GENERATED).

○ Revise the Legal Orientation task from “Legal Screening” to “Confidential Legal Consultation” to conform with terminology presented in the Unaccompanied Children Program Foundational Rule (45 CFR 410.1309(a)(2)(v)).

○ Replace “Contract” with “Service” where it appears on the form.

○ Display content entered in the New Contract “Notes” field to each internet Service Provider Service.

○ Adjust the burden estimate to account for a projected decrease in the number of children placed in ORR care since the form's last renewal and reflect that the form is completed by three different potential respondents with input from the child. The annual number of Case Manager respondents is expected to increase from 216 to 300, the annual number of Clinician respondents is estimated to be 300, the annual number of Interpreter respondents is estimated to be 300, and the number of children projected to be referred in FY 2025 is expected to decrease from 120,096 to 65,000. The annual number of responses per respondent changed as follows: The number of responses per Case Manager is expected to decrease from 694 to 108, the number of responses per Clinician is estimated to be 108, and the number of responses per Translator is estimated to be 217. The average burden hours per response remains unchanged at .33 hours reflecting the minimal substantive changes described above.

• Category 4 Reunification Case Review and Staffing (Form TBD-#): This is a new form created by ORR to support sponsor identification and outreach for children designated “Category 4” or without a viable sponsor. The form is completed by the care provider case manager, and in complex cases, by the care provider clinician in response to the child's Mobility Map, also submitted for approval under this information collection. The contents of the form, once complete, are shared with a concurrent planning team comprised of the care provider Case Manager, Supervising Case Manager, Clinician, Case Coordinator, and Federal Field Specialist at a staffing meeting to discuss findings and develop an action plan to identify a qualified sponsor for the child. The burden estimate for this form is as follows:

○ ORR estimates, based on historic averages that approximately 23,400 children or 36 percent of cases referred to ORR care and custody in FY 2025 will be designated “Category 4” at some point during their length of care. The number of case managers completing the form is estimated to be 300 annually, the number of clinicians completing the form is estimated to be 300 annually. The average number of responses per respondent is estimated to be approximately 98 per case manager and approximately 49 per clinician as clinicians will only complete the form if the case is deemed “complex” due to extended length of stay, medically fragile status of the child, trafficking, abuse, or neglect history concerns, or other extenuating circumstances that may make reunification with a vetted sponsor more difficult. The average burden hour per response associated with this form is estimated to be 1.88 hours for standard, non-complex cases involving only the child's case manager and 2.5 hours for complex cases requiring the involvement of a clinician.

• Family Finding and Mobility Mapping (Form TBD): This form is an instructional guide for use by care provider case managers and clinicians to facilitate the creation of a “Mobility Map” by a Category 4 child. The mobility map is a visual representation of the child's life in their home country and their journey to the U.S., which is intended to identify parents, legal guardians, extended family members, family friends, kinship networks, and other potential sponsor leads as well as identify potential sponsor fraud and parental rights violations. The Mobility Map is created by the child in response to child-friendly questions and facilitative techniques deployed by a care provider case manager, and potentially a clinician if the child's case is complex. The Family Finding and Mobility Mapping Guide provides instructions to care provider staff to engage the child safely and effectively in this Participatory Learning and Action process. The burden estimate for the Mobility Map is as follows:

○ ORR estimates, based on historic averages that approximately 23,400 children or 36 percent of cases referred to ORR care and custody in FY2025 will be designated “Category 4” at some point during their length of care. The number of children completing the form is estimated to be approximately 35,247, the number of case managers completing the form is estimated to be approximately 300, and the number of clinicians completing the form is estimated to be approximately 300. The average number of responses per respondent is estimated to be approximately 1.5 per child, approximately 117 per case manager and approximately 59 per clinician as clinicians will only participate in the Mobility Mapping process if the case is deemed “complex” due to extended length of stay, medically fragile status of the child, trafficking, abuse, or neglect history concerns, or other extenuating circumstances that may make reunification with a vetted sponsor more difficult. The average burden hour per response associated with this form is estimated to be 1.5 hours for the each of the respondents, including the child, case manager, and clinician.

Respondents: ORR grantee and contractor staff, unaccompanied alien children, and their sponsors.

Annual Burden Estimates
Form | Annual number of respondents | Number of responses per respondent | Average burden hours per response | Annual total burden hours
Sponsor Assessment (Form S-5)—Sponsor | 68,900 | 1.0 | 1.00 | 68,900
Sponsor Assessment (Form S-5) Case Manager | 300 | 230.0 | 1.00 | 69,000
Sponsor Assessment (Form S-5) Unification Specialist | 680 | 101.0 | 1.00 | 68,680
Sponsor Assessment (Form S-5)—Interpreter | 300 | 230.0 | 1.00 | 69,000
Adult Contact Profile (Form S-7)—Unification Specialist | 680 | 96.0 | 0.75 | 48,960
Initial Assessment (Form S-8)—Case Manager | 300 | 108.0 | 0.33 | 10,692.0
Initial Assessment (Form S-8)—Clinician | 300 | 108.0 | 0.33 | 10,692
Initial Assessment (Form S-8)—Child | 65,000 | 1.0 | 0.33 | 21,450
Initial Assessment (Form S-8)—Interpreter | 300 | 217.0 | 0.33 | 21,483
Assessment for Risk (Form S-9)—Case Manager | 300 | 108.0 | 0.75 | 24,300
Assessment for Risk (Form S-9)—Clinician | 300 | 108.0 | 0.75 | 24,300
Assessment for Risk (Form S-9)—Child | 65,000 | 1.0 | 0.75 | 48,750
Assessment for Risk (Form S-9)—Interpreter | 300 | 217.0 | 0.75 | 48,825
UAC Assessment (Form S-11)—Case Manager | 300 | 108.0 | 2.25 | 72,900
UAC Assessment (Form S-11)—Clinician | 300 | 108.0 | 2.25 | 72,900
UAC Assessment (Form S-11)—Child | 65,000 | 1.0 | 2.25 | 146,250
UAC Assessment (Form S-11)—Interpreter | 300 | 217.0 | 2.25 | 146,475
UAC Case Review (Form S-12)—Case Manager | 300 | 217.0 | 0.50 | 32,550
UAC Case Review (Form S-12)—Clinician | 300 | 217.0 | 0.50 | 32,550
UAC Case Review (Form S-12)—Unification Specialist | 680 | 96.0 | 0.50 | 32,640
Individual Service Plan (Form S-13)—Case Manager | 300 | 108.0 | 0.33 | 10,692
Individual Service Plan (Form S-13)—Clinician | 300 | 108.0 | 0.33 | 10,692
Individual Service Plan (Form S-13)—Interpreter | 300 | 217.0 | 0.33 | 21,483
Category 4 Reunification Case Review and Staffing (Form TBD-#)—Case Manager | 300 | 98.0 | 1.88 | 55,125
Category 4 Reunification Case Review and Staffing (Form TBD-#)—Clinician | 300 | 49.0 | 2.50 | 36,750
Family Finding and Mobility Mapping (Form TBD-#)—Child | 23,400 | 2.0 | 1.50 | 70,200
Family Finding and Mobility Mapping (Form TBD-#)—Case Manager | 300 | 117.0 | 1.50 | 52,650
Family Finding and Mobility Mapping (Form TBD-#)—Clinician | 300 | 59.0 | 1.50 | 26,550
Estimated Annual Burden Hours Total |  |  |  | 1,355,439

Authority: 6 U.S.C. 279; 8 U.S.C. 1232.

Mary C. Jones,
ACF/OPRE Certifying Officer.

[FR Doc. 2025-09370 Filed 5-23-25; 8:45 am]

BILLING CODE 4184-45-P